DEPARTMENT OF HOMELAND SECURITY

Coast Guard

33 CFR Part 100

[Docket Number USCG-2025-0263]

RIN 1625-AA08

Special Local Regulation; New Orleans Offshore Grand Prix; Lake Pontchartrain, New Orleans, LA

AGENCY: Coast Guard, DHS.

ACTION: Temporary final rule.

SUMMARY: The Coast Guard is establishing a temporary special local regulation for certain navigable waters of Lake Pontchartrain, New Orleans, LA. This action is necessary to protect race participants, spectators, first responders, and the general public from the hazards created by the New Orleans Offshore Grand Prix on the navigable waters of the United States during the event. Entry of vessels or persons into this zone would be prohibited unless authorized by the Captain of the Port Sector New Orleans (COTP) or a designated representative.

DATES: This rule is effective from June 24, 2025, through June 29, 2025, and will be enforced from 8 a.m. to 7 p.m. daily.

ADDRESSES: To view documents mentioned in this preamble as being available in the docket, go to https://www.regulations.gov, type USCG-2025-0263 in the search box and click “Search.” Next, in the Document Type column, select “Supporting & Related Material.”

FOR FURTHER INFORMATION CONTACT: If you have questions about this rule, call or email Lieutenant Commander Xiaobin Tuo, Sector New Orleans, U.S. Coast Guard; 504-365-2246, email Xiaobin.Tuo@uscg.mil.

SUPPLEMENTARY INFORMATION:

I. Table of Abbreviations

BNM Broadcast Notice to Mariners

CFR Code of Federal Regulations

COTP Captain of the Port New Orleans

DHS Department of Homeland Security

FR Federal Register

LNM Local Notice to Mariners

MSIB Marine Safety Information Bulletin

NPRM Notice of Proposed Rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule. Prompt action is needed to make this temporary regulation effective prior to the start of the event on June 24, 2025, to provide for safety of persons and vessels during the event. It is impracticable to publish an NPRM because there is insufficient time to receive, consider, and respond to public comments before the start date.

Also, under 5 U.S.C. 553(d)(3), the Coast Guard finds that good cause exists for making this rule effective less than 30 days after publication in the Federal Register. Delaying the effective date of this rule is impracticable and contrary to public interest because prompt action is needed to respond to the potential safety hazards associated with New Orleans Offshore Grand Prix boat race.

III. Legal Authority and Need for Rule

The Coast Guard is issuing this rule under authority in 46 U.S.C. 70041. The COTP Sector New Orleans has determined that potential hazards associated with the New Orleans Offshore Grand Prix boat race starting June 24, 2025, will be a safety concern for anyone within the following coordinates: 30°01.87900′ N, 090°06.36500′ W to 30°02.52700′ N, 090°06.31800′ W to 30°02.71800′ N, 090°08.95700′ W to 30°01.30300′ N, 090°09.20700′ W. This regulation will help ensure the safety of vessels and personnel on the navigable waters before, during, and after the scheduled event by ensuring that spectator vessels remain clear of the race area during the event.

IV. Discussion of the Rule

The COTP is establishing a temporary special local regulation in Lake Pontchartrain, New Orleans, LA from June 24, 2025, through June 29, 2025, from 8 a.m. to 7 p.m. daily. The race zone will encompass all navigable waters within the following coordinates on Lake Pontchartrain, New Orleans, LA: 30°01.87900′ N, 090°06.36500′ W to 30°02.52700′ N, 090°06.31800′ W to 30°02.71800′ N, 090°08.95700′ W to 30°01.30300′ N, 090°09.20700′ W. The special local regulation aims to ensure the safety of vessels and personnel upon the navigable waters of the specified waterway before, during, and after the scheduled marine event. Only predesignated vessel(s) or person(s) participating in the event will be permitted within the regulated area. Spectator vessel(s) or person(s) may not enter the regulated area without obtaining permission from the COTP or a designated representative A designated representative means any Coast Guard commissioned, warrant, or petty officer of the U.S. Coast Guard assigned to units under the operational control of Sector New Orleans; to include a Federal, State, and/or local officer designated by or assisting the COTP in the enforcement of the special local regulation. Persons and vessels permitted to enter this area must transit at their slowest safe speed and comply with all lawful directions issued by the COTP or the designated representative. Spectator vessels will not be allowed to anchor, block, loiter, or impede the through transit of participants or a designated patrol vessel in the regulated area during the effective dates and times, unless cleared for entry by the COTP or the designated representative. Spectator vessels may anchor outside the regulated area to observe the event.

The COTP or a designated representative may forbid and control the movement of all vessels in the regulated area. Vessels hailed or signaled by a designated patrol vessel, must stop and comply with any directions given. Failure to do so might result in expulsion from the area, citation for failure to comply, or both. The COTP or a designated representative might terminate the event or the operation of any vessel at any time it is deemed necessary for the protection of life or property. The COTP or a designated representative will terminate enforcement of the special local regulations at the conclusion of the event.

The COTP or a designated representative may inform the public of the effective period of the special local regulation or changes to dates and times of enforcement through the use of Local Notice to Mariners (LNM), Broadcast Notices to Mariners (BNMs), and/or Marine Safety Information Bulletins (MSIBs) as appropriate.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on the following considerations. During events, this regulation excluding vessels and persons from the race area will be enacted for short, predetermined periods of time. Persons and vessels may enter, transit through, or anchor in this area with authorization from the Captain of the Port. Vessels will also be able to safely transit around the regulated area. The Coast Guard will also provide advance notification of the regulations to the local community by MSIBs, BNMs, and designation of Patrol Commanders.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a special local regulation for a high-speed boat race which will exclude non-participant vessels from entering the race area on Lake Pontchartrain during specified hours over a six-day period. Normally such actions are categorically excluded from further review under paragraph L61 of Appendix A, Table 1 of DHS Instruction Manual 023-01-001-01, Rev. 1.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T899-0263 to read as follows:

§ 100.T899-0263 New Orleans Offshore Grand Prix, Lake Pontchartrain, New Orleans, LA.

(a) Regulated area. The regulations in this section apply to the following area: All waters of Lake Pontchartrain, from surface to bottom, encompassed by a line connecting the following points beginning at 30°01.87900′ N, 090°06.36500′ W to 30°02.52700′ N, 090°06.31800′ W to 30°02.71800′ N, 090°08.95700′ W to 30°01.30300′ N, 090°09.20700′ W and back to the beginning point. These coordinates are based on the 1984 World Geodetic System (WGS 84).

(b) Definitions. As used in this section—

Designated representative means a Coast Guard Patrol Commander, including a Coast Guard coxswain, petty officer, or other officer operating a Coast Guard vessel and any Federal, State, or local officer designated by or assisting the Captain of the Port New Orleans in the enforcement of the special local regulation.

Participant means all persons and vessels registered with the event sponsor as participants or official patrol vessels.

(c) Regulations. (1) All non-participants are prohibited from entering, transiting through, anchoring in, or remaining within the regulated area described in paragraph (a) of this section unless authorized by the Captain of the Port New Orleans or their designated representative.

(2) To seek permission to enter the regulated area, contact the COTP or the COTP's representative by (504) 365-2545 or VHF-FM Channel 16 or 67. Any spectator permitted to enter the regulated area must comply with all lawful orders or directions given to them by the COTP or the designated representative.

(3) No spectator vessel is allowed to anchor, block, loiter, or impede the through transit of participants or a designated representative in the regulated area during the effective dates and times, unless cleared for entry by the COTP or the designated representative.

(4) The COTP or a designated representative may forbid and control the movement of all vessels in the regulated area. When hailed or signaled by a designated representative, a vessel shall come to an immediate stop and comply with the directions given. Failure to do so may result in expulsion from the area, citation for failure to comply, or both.

(5) The COTP or a designated representative may terminate the event or the operation of any vessel at any time if it is deemed necessary for the protection of life or property. The COTP or designated representative will conclude enforcement of the special local regulations at the conclusion of the event.

(d) Enforcement period. This section will be enforced from June 24, 2025, through June 29, 2025, between 8 a.m. and 7 p.m. daily.

Dated: June 10, 2025.
G.A. Callaghan,
CAPTAIN, U.S. Coast Guard, Captain of the Port Sector New Orleans.

[FR Doc. 2025-11173 Filed 6-16-25; 8:45 am]

BILLING CODE 9110-04-P